DEPARTMENT OF COMMERCE

National Oceanic and Atmospheric Administration

50 CFR Part 679

[Docket No. 250312-0036; RTID 0648-XF403]

Fisheries of the Exclusive Economic Zone Off Alaska; Inseason Adjustment to the 2026 Aleutian Islands Pacific Cod Total Allowable Catch Amount and Bering Sea and Aleutian Islands Pacific Cod Allocations

AGENCY: National Marine Fisheries Service (NMFS), National Oceanic and Atmospheric Administration (NOAA), Commerce.

ACTION: Temporary rule; inseason adjustment; request for comments.

SUMMARY: NMFS is adjusting the 2026 total allowable catch (TAC) amount for Aleutian Islands (AI) Pacific cod and the Bering Sea and Aleutian Islands (BSAI) Pacific cod sector allocations and seasonal apportionments. NMFS has determined the AI Pacific cod TAC is incorrectly specified and these adjustments will address the underharvest of BSAI Pacific cod TACs that would result if the TACs were not adjusted. This action is consistent with the goals and objectives of the Fishery Management Plan for Groundfish of the BSAI Management Area (FMP).

DATES: Effective 0001 hours, Alaska local time (A.l.t.), January 1, 2026, through March 18, 2026, unless otherwise modified or superseded through publication of the final 2026 and 2027 harvest specifications for BSAI groundfish.

Comments must be received at the following ADDRESSES no later than 4:30 p.m., A.l.t., January 7, 2026.

ADDRESSES: You may submit comments on this document, identified by NOAA-NMFS-2024-0116, by any of the following methods:

• Electronic Submission: Submit all electronic public comments via the Federal e-Rulemaking Portal. Visit https://www.regulations.gov and type NOAA-NMFS-2024-0116 in the Search box. Click on the “Comment” icon, complete the required fields, and enter or attach your comments.

• Mail: Submit written comments to Gretchen Harrington, Assistant Regional Administrator, Sustainable Fisheries Division, Alaska Region NMFS. Mail comments to P.O. Box 21668, Juneau, AK 99802-1668.

Instructions: Comments sent by any other method, to any other address or individual, or received after the end of the comment period may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Andrew Olson, 907-586-7228.

SUPPLEMENTARY INFORMATION: NMFS manages the groundfish fishery in the BSAI exclusive economic zone according to the FMP prepared and recommended by the North Pacific Fishery Management Council (Council) under authority of the Magnuson-Stevens Fishery Conservation and Management Act (Magnuson-Stevens Act). Regulations governing fishing by U.S. vessels in accordance with the FMP appear at subpart H of 50 CFR 600 and 50 CFR part 679.

The final 2025 and 2026 harvest specifications for groundfish in the BSAI (90 FR 12640, March 18, 2025) set the 2026 AI Pacific cod TAC at 8,432 mt. In December 2025, the Council recommended a 2026 AI Pacific cod TAC of 8,951 mt, which is more than the AI Pacific cod TAC of 8,432 mt established for 2026 by the final 2025 and 2026 harvest specifications for groundfish in the BSAI. This increase in TAC accounts for a reduction in the guideline harvest level (GHL) set for the State of Alaska (State) waters Pacific cod fishery in the AI. The AI Pacific cod TAC accounts for the State GHL for Pacific cod to ensure that the sum of all State and Federal Pacific cod removals do not exceed the acceptable biological catch (ABC) set for AI Islands Pacific cod.

Steller sea lions occur in the same location as the Pacific cod fisheries and are listed as endangered under the Endangered Species Act. Pacific cod is a principal prey species for Steller sea lions in the BSAI. NMFS published regulations and the revised harvest limit amount for Pacific cod fisheries to implement Steller sea lion protection measures to ensure that groundfish fisheries of the BSAI are not likely to jeopardize the continued existence of the western distinct population segment of Steller sea lions or destroy or adversely modify their designated critical habitat (79 FR 70286, November 25, 2014). These measures include regulations requiring the seasonal apportionment of Pacific cod harvest and the specification of an Area 543 Pacific cod harvest limit. To calculate the Area 543 Pacific cod harvest limit, NMFS first subtracts the State GHL Pacific cod amount from the AI Pacific cod ABC. Then NMFS determines the harvest limit in Area 543 by multiplying the percentage of Pacific cod estimated in Area 543 by the remaining ABC for AI Pacific cod.

Stock assessments were not completed in 2025 due to the lapse in appropriations and resulting government shutdown from October 1, 2025 through November 12, 2025. The Scientific and Statistical Committee (SSC) recommendations are informed by the Groundfish Plan Team's recommended overfishing limits (OFLs) and ABCs from their November 2024 meeting as well as a review of the most recent Stock Assessment and Fishery Evaluation (SAFE) report dated November 2024. The Council's TAC recommendations are based on those of its Advisory Panel, consistent with the SSC's OFL and ABC recommendations, and reflect the most recent information on the State GHL and Pacific cod.

In accordance with § 679.25(a)(1)(iii), (a)(2)(i)(C), and (a)(2)(iv), the Administrator, Alaska Region, NMFS (Regional Administrator), has determined that the 2026 AI Pacific cod TAC and subsequent BSAI Pacific cod sector allocations and seasonal apportionments are incorrectly specified and that adjustments are necessary to address the underharvest of BSAI Pacific cod that could occur if the AI Pacific cod TAC and BSAI Pacific cod sector allocations are not increased consistent with the TAC recommendations by the Council at the December 2025 meeting. This determination is based on the November 2024 SAFE report and the TAC recommendations by the Council at the December 2025 meeting, and in consideration of the change in the State GHL for the State waters fishery in the AI and the regulations implementing the Steller sea lion protection measures. The adjustment to the AI Pacific cod TAC is also necessary to ensure that the BSAI Pacific cod TACs are seasonally apportioned among sectors consistent with the Steller sea lion protection measures and that the Area 543 Pacific cod harvest limit, which is based on Pacific cod abundance in Area 543, is correctly specified. These adjustments are based upon the best available scientific information concerning the biological stock status of AI Pacific cod.

Pursuant to § 679.25(a)(1)(iii), the Regional Administrator is adjusting the 2026 AI Pacific cod TAC to 8,951 mt. Therefore, table 2 of the final 2025 and 2026 harvest specifications for groundfish in the BSAI (90 FR 12640, March 18, 2025) is revised consistent with this adjustment.

Pursuant to § 679.20(a)(7), table 10 of the final 2025 and 2026 harvest specifications for groundfish in the BSAI (90 FR 12640, March 18, 2025) is revised for the 2026 sector allocations and seasonal allowances of the BSAI Pacific cod TAC, Community Development Quota (CDQ) Program directed fishing allowances (DFAs), and Pacific Cod Trawl Cooperative (PCTC) Program DFAs consistent with this adjustment.

Table 10—Final 2026 Sector Allocations and Seasonal Allowances of the BSAI Pacific Cod TAC
[Values are rounded to the nearest metric ton]
Sector | Percent | 2026 share of area, gear, and sector total | Season | Season amounts
Total Bering Sea TAC | n/a | 123,077 | n/a | n/a
Bering Sea CDQ | n/a | 13,169 | See § 679.20(a)(7)(i)(B) | n/a
Bering Sea non-CDQ TAC | n/a | 109,908 | n/a | n/a
Total Aleutian Islands TAC | n/a | 8,951 | n/a | n/a
Aleutian Islands CDQ | n/a | 958 | See § 679.20(a)(7)(i)(B) | n/a
Aleutian Islands non-CDQ TAC | n/a | 7,993 | n/a | n/a
Western Aleutian Islands Limit | n/a | 2,864 | n/a | n/a
Total BSAI non-CDQ TAC ¹ | 100 | 117,901 | n/a | n/a
Total hook-and-line/pot gear | 60.8 | 71,684 | n/a | n/a
Hook-and-line/pot ICA ² | n/a | 500 | n/a | n/a
Hook-and-line/pot sub-total | n/a | 71,184 | n/a | n/a
Hook-and-line catcher/processors | 48.7 | 57,017 | n/a | n/a
A-season | n/a | n/a | Jan 1-Jun 10 | 29,079
B-season | n/a | n/a | June 10-Dec 31 | 27,938
Hook-and-line catcher vessels ≥60 ft LOA | 0.2 | 234 | n/a | n/a
A-season | n/a | n/a | Jan 1-Jun 10 | 119
B-season | n/a | n/a | June 10-Dec 31 | 115
Pot catcher/processers | 1.5 | 1,756 | n/a | n/a
A-season | n/a | n/a | Jan 1-Jun 10 | 896
B-season | n/a | n/a | Sept 1-Dec 31 | 861
Pot catcher vessels ≥60 ft LOA | 8.4 | 9,835 | n/a | n/a
A-season | n/a | n/a | Jan 1-Jun 10 | 5,016
B-season | n/a | n/a | Sept 1-Dec 31 | 4,819
Catcher vessels <60 ft LOA using hook-and-line or pot | 2 | 2,342 | n/a | n/a
Trawl catcher vessels ³ | 22.1 | 26,056 | n/a | n/a
A-season ICA | n/a | n/a | Jan 20-Apr 1 | 1,500
A-season PCTC | n/a | n/a | Jan 20-Apr 1 | 17,782
B-season ICA | n/a | n/a | Apr 1-Jun 10 | 600
B-season PCTC | n/a | n/a | Apr 1-Jun 10 | 2,166
C-season trawl catcher vessels | n/a | n/a | Jun 10-Nov 1 | 3,908
AFA trawl catcher/processors | 2.3 | 2,712 | n/a | n/a
A-season | n/a | n/a | Jan 20-Apr 1 | 2,034
B-season | n/a | n/a | Apr 1-Jun 10 | 678
C-season | n/a | n/a | Jun 10-Nov 1 | 0
Amendment 80 | 13.4 | 15,799 | n/a | n/a
A-season | n/a | n/a | Jan 20-Apr 1 | 11,849
B-season | n/a | n/a | Apr 1-Jun 10 | 3,950
C-season | n/a | n/a | Jun 10-Dec 31 | 0
Jig | 1.4 | 1,651 | n/a | n/a
A-season | n/a | n/a | Jan 1-Apr 30 | 990
B-season | n/a | n/a | Apr 30-Aug 31 | 330
C-season | n/a | n/a | Aug 31-Dec 31 | 330
¹ The sector allocations and seasonal allowances for BSAI Pacific cod TAC are based on the sum of the BS and AI Pacific cod TACs, after subtraction of the reserves for the CDQ Program. If the TAC for Pacific cod in either the BS or AI is or will be reached, then directed fishing will be prohibited for non-CDQ Pacific cod in that subarea, even if a BSAI allowance remains (§ 679.20(d)(1)(iii)).
² The incidental catch allowance (ICA) for the hook-and-line and pot sectors will be deducted from the aggregate portion of Pacific cod TAC allocated to the hook-and-line and pot sectors. The Regional Administrator sets an ICA of 500 mt based on anticipated incidental catch by these sectors in other fisheries.
³ The A and B season trawl CV Pacific cod allocation will be allocated to the PCTC Program after subtraction of the A and B season ICAs (§ 679.131(b)(1)). Section 679.131(b)(1)(i) requires NMFS to establish an ICA for incidental catch of Pacific cod by trawl CVs engaged in directed fishing for groundfish other than PCTC Program Pacific cod. The Regional Administrator sets for the A and B seasons, ICAs of 1,500 mt and 600 mt, respectively, to account for projected incidental catch of Pacific cod by trawl catcher vessels engaged in directed fishing for groundfish other than PCTC Program Pacific cod.

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest, as it would prevent NMFS from responding to the most recent fisheries data and information in a timely fashion and would result in the underharvest of Pacific cod in the BSAI if the AI Pacific cod TAC and BSAI Pacific cod sector allocations are not increased consistent with the TAC recommendations by the Council at their December 2025 meeting. NMFS was unable to publish a notice providing time for public comment because the most recent, relevant data and information only became available as of December 19, 2025. This action must be effective by January 1, 2026, to ensure harvests of Pacific cod are consistent with seasonal apportionments and harvest limits for Pacific cod that are based on regulations implementing Steller sea lion protection measures.

Without this inseason adjustment, NMFS could not allow the fishery for Pacific cod in the BSAI to be harvested in an expedient manner. Under § 679.25(c)(2), interested persons are invited to submit written comments on this action to the above ADDRESSES until January 7, 2026.

There is good cause under 5 U.S.C. 553(d)(3) to establish an effective date less than 30 days after date of publication. This finding is based upon the reasons provided above for waiver of prior notice and opportunity for public comment.

Authority: 16 U.S.C. 1801 et seq.

Dated: December 19, 2025.
Kelly Denit,
Director, Office of Sustainable Fisheries, National Marine Fisheries Service.

[FR Doc. 2025-23775 Filed 12-22-25; 8:45 am]

BILLING CODE 3510-22-P